ENVIRONMENTAL PROTECTION AGENCY

[FRL-7515-7]

EPA Handbook for Use of Data From the National Health and Nutrition Examination Surveys (NHANES): A Goldmine of Data for Environmental Health Analyses

AGENCY: Environmental Protection Agency (EPA).

ACTION: Notice of availability.

SUMMARY: This notice announces the availability of a final report titled, EPA Handbook for Use of Data from the National Health and Nutrition Examination Surveys (NHANES): A Goldmine of Data for Environmental Health Analyses (EPA/600/R-02/044), which was prepared by the U.S. Environmental Protection Agency's National Center for Environmental Assessment (NCEA) of the Office of Research and Development (ORD). This Handbook was developed to provide descriptive background information and general guidance on how to access and use data from the National Health and Nutrition Examination Surveys (NHANES). Since 1971 the National Center for Health Statistics (NCHS), which is part of the Centers for Disease Control and Prevention, has been sponsoring the NHANES in order to collect data on the health and nutrition status of the U.S. population. EPA has been one of many collaborating federal agencies that help plan the content of and support funding for this survey. The enormous NHANES human database can be used to develop information suitable for use in risk assessments, and to support regulatory and policy needs of EPA. From this Handbook, the reader should gain a basic understanding of what data are available through NHANES, how to obtain the data, if the data are potentially suitable for supporting the needs of his/her office, key limitations of the data, and what types of analyses are possible.

ADDRESSES: The document is available electronically through the NCEA Web site (www.epa.gov/ncea). A limited number of paper copies are available from the EPA's National Service Center for Environmental Publications (NSCEP), P.O. Box 42419, Cincinnati, OH 45242; telephone: 1-800-490-9198 or 513-489-8190; facsimile: 513-489-8695. Please provide your name and mailing address and the title and EPA number of the requested publication.

FOR FURTHER INFORMATION CONTACT: The Technical Information Staff, National Center for Environmental Assessment/Washington Office (8623D), U.S. Environmental Protection Agency, 1200 Pennsylvania Avenue, NW., Washington, DC 20460. Telephone: 202-564-3261; fax: 202-565-0050; e-mail: nceadc.comment@epa.gov.

Dated: June 12, 2003.
Peter W. Preuss,
Director, National Center for Environmental Assessment.

[FR Doc. 03-15662 Filed 6-19-03; 8:45 am]

BILLING CODE 6560-50-P